DEPARTMENT OF HOMELAND SECURITY

Federal Emergency Management Agency

[Docket ID FEMA-2013-0002; Internal Agency Docket No. FEMA-B-1337]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Arizona:
Cochise | Unincorporated areas of Cochise County (13-09-0282P) | The Honorable Ann English Chair, Cochise County Board of Supervisors, 1415 Melody Lane, Building G, Bisbee, AZ 85603 | Cochise County Flood Control District, 1415 Melody Lane, Building F, Bisbee, AZ 85603 | http://www.r9map.org/Docs/13-09-0282P-040012-102D.pdf | September 9, 2013 | 040012
Maricopa | City of Chandler (13-09-0386P) | The Honorable Jay Tibshraeny, Mayor, City of Chandler, P.O. Box 4008, Chandler, AZ 85224 | Public Works Department, 215 East Buffalo Street, Chandler, AZ 85224 | http://www.r9map.org/Docs/13-09-0386P-040040-102IAC.pdf | September 20, 2013 | 040040
Maricopa | City of Peoria (13-09-0048P) | The Honorable Bob Barrett, Mayor, City of Peoria, 8401 West Monroe Street, Peoria, AZ 85345 | City Hall, 8401 West Monroe Street, Peoria, AZ 85345 | http://www.r9map.org/Docs/13-09-0048P-040050-102IAC.pdf | August 30, 2013 | 040050
California:
Contra Costa | City of Pleasant Hill (13-09-0336P) | The Honorable Michael G. Harris, Mayor, City of Pleasant Hill, 100 Gregory Lane, Pleasant Hill, CA 94523 | Public Works Department, 100 Gregory Lane, Pleasant Hill, CA 94523 | http://www.r9map.org/Docs/13-09-0336P-060034-102DA.pdf | August 5, 2013 | 060034
Merced | City of Merced (13-09-1225P) | The Honorable Stanley P. Thurston, Mayor, City of Merced, 678 West 18th Street, Merced, CA 95340 | City Hall, 678 West 18th Street, Merced, CA 95340 | http://www.r9map.org/Docs/13-09-1225P-060191-102DA.pdf | September 6, 2013 | 060191
Riverside | City of Canyon Lake (13-09-0376P) | The Honorable Mary Craton, Mayor, City of Canyon Lake, 31516 Railroad Canyon Road, Canyon Lake, CA 92587 | City Hall, 31516 Railroad Canyon Road, Canyon Lake, CA 92587 | http://www.r9map.org/Docs/13-09-0376P-060753-102IAC.pdf | August 30, 2013 | 060753
Riverside | City of Menifee (13-09-0376P) | The Honorable Scott Mann, Mayor, City of Menifee, 29714 Haun Road, Menifee, CA 92586 | Planning Department, 29714 Haun Road, Menifee, CA 92586 | http://www.r9map.org/Docs/13-09-0376P-060176-102IAC.pdf | August 30, 2013 | 060176
Riverside | City of Riverside (12-09-2546P) | The Honorable Rusty Bailey, Mayor, City of Riverside, 3900 Main Street, Riverside, CA 92501 | Planning and Building Department 3900 Main Street Riverside, CA 92501 | http://www.r9map.org/Docs/12-09-2546P-060260-102IAC.pdf | September 3, 2013 | 060260
San Diego | City of San Marcos (13-09-1397P) | The Honorable Jim Desmond, Mayor, City of San Marcos, 1 Civic Center Drive, San Marcos, CA 92069 | City Hall, 1 Civic Center Drive, San Marcos, CA 92069 | http://www.r9map.org/Docs/13-09-1397P-060296-102DA.pdf | September 6, 2013 | 060296
San Mateo | City of South San Francisco (13-09-1038P) | The Honorable Pedro Gonzalez, Mayor, City of South San Francisco, P.O. Box 711, South San Francisco, CA 94083 | City Hall, 400 Grand Avenue, South San Francisco, CA 94080 | http://www.r9map.org/Docs/13-09-1038P-065062-102IAC.pdf | September 9, 2013 | 065062
California: Santa Barbara | Unincorporated areas of Santa Barbara County (13-09-1226P) | The Honorable Salud Carbajal, Chairman, Santa Barbara County Board of Supervisors, 105 East Anapamu Street, Santa Barbara, CA 93101 | Santa Barbara County Public Works Public Department, Water Resources Division, 123 East Anapamu Street, Santa Barbara, CA 93101 | http://www.r9map.org/Docs/13-09-1226P-060331-102IAC.pdf | September 20, 2013 | 060331
Ventura | City of Simi Valley (13-09-1766P) | The Honorable Bob Huber, Mayor, City of Simi Valley, 2929 Tapo Canyon Road, Simi Valley, CA 93063 | City Hall, 2929 Tapo Canyon Road, Simi Valley, CA 93063 | http://www.r9map.org/Docs/13-09-1766P-060421-102IAC.pdf | September 19, 2013 | 060421
Colorado:
Arapahoe | City of Centennial (13-08-0083P) | The Honorable Cathy Noon, Mayor, City of Centennial, 13133 East Arapahoe Road, Centennial, CO 80112 | Southeast Metro Stormwater Authority, 76 Inverness Drive East, Suite A, Centennial, CO 80112 | http://www.bakeraecom.com/index.php/colorado/arapahoe/ | August 30, 2013 | 080315
Jefferson | Unincorporated areas of Jefferson County (13-08-0231P) | The Honorable Donald Rosier, Chairman, Jefferson County Board of Commissioners, 100 Jefferson County Parkway, Golden, CO 80419 | Jefferson County Department of Planning and Zoning, 100 Jefferson County Parkway, Golden, CO 80419 | http://www.bakeraecom.com/index.php/colorado/jefferson-5/ | September 6, 2013 | 080087
Routt | City of Steamboat Springs (13-08-0177P) | Ms. Deb Hinsvark, Manager, City of Steamboat Springs, P.O. Box 775088, Steamboat Springs, CO 80477 | City Hall, 124 10th Street, Steamboat Springs, CO 80477 | http://www.bakeraecom.com/index.php/colorado/routt/ | August 26, 2013 | 080159
Florida:
Collier | City of Naples (13-04-2098P) | The Honorable John F. Sorey, III, Mayor, City of Naples, 735 8th Street, South Naples, FL 34102 | Building Department, 295 Riverside Circle, Naples, FL 34102 | http://www.bakeraecom.com/index.php/florida/collier/ | August 30, 2013 | 125130
Sumter | Unincorporated areas of Sumter County (13-04-1285P) | The Honorable Doug Gilpin, Chairman, Sumter County Board of Commissioners, 7375 Powell Road, Wildwood, FL 34785 | Sumter County Planning Department, 7375 Powell Road, Wildwood, FL 34785 | http://www.bakeraecom.com/index.php/florida/sumter-2/ | September 20, 2013 | 120296
Duval | City of Jacksonville (13-04-0158P) | The Honorable Alvin Brown, Mayor, City of Jacksonville, 117 West Duval Street, Jacksonville, FL 32202 | Development Services Division, 117 West Duval Street, Jacksonville, FL 32202 | http://www.bakeraecom.com/index.php/florida/duval/ | September 6, 2013 | 120077
Duval | City of Jacksonville (13-04-3128P) | The Honorable Alvin Brown, Mayor, City of Jacksonville, 117 West Duval Street, Jacksonville, FL 32202 | Development Services Division, 117 West Duval Street, Jacksonville, FL 32202 | http://www.bakeraecom.com/index.php/florida/duval/ | August 30, 2013 | 120077
Georgia:
Dougherty | City of Albany (13-04-1420P) | The Honorable Dorothy Hubbard, Mayor, City of Albany, 222 Pine Avenue, Albany, GA 31701 | City Hall, 222 Pine Avenue, Albany, GA 31701 | http://www.bakeraecom.com/index.php/georgia/dougherty/ | September 6, 2013 | 130075
Glynn | Unincorporated areas of Glynn County (13-04-2726P) | The Honorable Mary Hunt, Chair, Glynn County Board of Commissioners, 172 Palmera Lane, Brunswick, GA 31525 | Glynn County Building Department, 1725 Reynolds Street, Brunswick, GA 31525 | http://www.bakeraecom.com/index.php/georgia/glynn/ | August 30, 2013 | 130092
Mississippi:
Union | Town of New Albany (13-04-2091P) | The Honorable Tim Kent, Mayor, Town of New Albany, P.O. Box 56, New Albany, MS 38652 | Town Hall, 101 West Bankhead Street, New Albany, MS 38652 | http://www.bakeraecom.com/index.php/mississippi/union-3/ | July 22, 2013 | 280174
North Dakota:
Stark | Unincorporated areas of Stark County (13-08-0275P) | The Honorable Ken Zander, Chairman, Stark County Board of Commissioners, P.O. Box 130, Dickinson, ND 58602 | Stark County Recorder's Office, 51 3rd Street East, Dickinson, ND 58602 | http://www.bakeraecom.com/index.php/north-dakota/stark/ | August 19, 2013 | 385369
South Carolina:
Greenville | City of Greenville (13-04-1043P) | The Honorable Knox White, Mayor, City of Greenville, P.O. Box 2207, Greenville, SC 29602 | City Council Office, 206 South Main Street, Greenville, SC 29601 | http://www.bakeraecom.com/index.php/southcarolina/greenville/ | July 26, 2013 | 450091
Berkeley | Town of Moncks Corner (13-04-1115P) | The Honorable William W. Peagler, III, Mayor, Town of Moncks Corner, P.O. Box 700, Moncks Corner, SC 29461 | Town Hall, 118 Carolina Avenue, Moncks Corner, SC 29461 | http://www.bakeraecom.com/index.php/southcarolina/berkeley/ | September 19, 2013 | 450031
Tennessee:
Knox | City of Knoxville (13-04-1221P) | The Honorable Madeline Rogero, Mayor, City of Knoxville, P.O. Box 1631, Knoxville, TN 37902 | Engineering Division, City County Building, 400 Main Street, Room 480, Knoxville, TN 37902 | http://www.bakeraecom.com/index.php/tennessee/knox-2/ | September 20, 2013 | 475434
Wyoming:
Natrona | City of Casper (13-08-0084P) | The Honorable Kenyne Schlager, Mayor, City of Casper, 200 North David Street, Casper, WY 82601 | Community Development Department, 200 North David Street, Casper, WY 82601 | http://www.bakeraecom.com/index.php/wyoming/natrona/ | August 30, 2013 | 560037
Natrona | Unincorporated areas of Natrona County (13-08-0084P) | The Honorable Bill McDowell, Chairman, Natrona County Board of Commissioners, 200 North Center, Casper, WY 82601 | Natrona County Planning and Zoning Department, 120 West 1st Street, Suite 200, Casper, WY 82601 | http://www.bakeraecom.com/index.php/wyoming/natrona/ | August 30, 2013 | 560036

(Catalog of Federal Domestic Assistance No. 97.022, “Flood Insurance.”)

Dated: July 12, 2013.
Roy Wright,
Deputy Associate Administrator for Mitigation, Department of Homeland Security, Federal Emergency Management Agency.

[FR Doc. 2013-18789 Filed 8-2-13; 8:45 am]

BILLING CODE 9110-12-P